DEPARTMENT OF ENERGY

Notice of Request for Information (RFI) Regarding Hydropower Incentive Programs Development

AGENCY: Grid Deployment Office, Department of Energy (DOE).

ACTION: Request for Information (RFI).

SUMMARY: The U.S. Department of Energy (DOE) invites public input for its Request for Information (RFI) number DE-FOA-0002762 regarding issues related to the development of hydroelectric incentive programs authorized under sections 243 and 247 of the Energy Policy Act of 2005, as amended by sections 40332 and 40333 of the Infrastructure Investment and Jobs Act. DOE's Grid Deployment Office (GDO) welcomes written and verbal input from the public on the subjects identified in this RFI to support the development of future hydroelectric incentive programs.

DATES: Responses to the RFI must be received no later than 11:59 p.m. EDT on Tuesday, September 6, 2022.

ADDRESSES: Interested parties are to submit comments electronically to WPTORFI@ee.doe.gov. In lieu of or in addition to providing electronic responses to this RFI, respondents may request a 30-minute individual unrecorded discussion with a DOE staff member regarding the content of their responses to the RFI questions. When submitting electronic responses, include with subject line “Organization/Name: Response to RFI on Hydropower Incentives Program”. Only electronic responses or verbal responses through a scheduled 30-minute individual discussion will be accepted. The complete RFI is located at https://eere-exchange.energy.gov/.

DOE will hold a public meeting via webinar on Tuesday, August 9, 2022. For webinar registration information, participant instructions, and information about the capabilities available to webinar participants, please visit https://bit.ly/RFI_HydroIncentiveProgram.

FOR FURTHER INFORMATION CONTACT: Questions may be addressed to Corey Vezina, email at hydroincentive@ee.doe.gov or phone number (240) 562-1382. Further instruction can be found in the RFI document posted on EERE Exchange.

SUPPLEMENTARY INFORMATION: The purpose of this RFI is to solicit feedback from industry, tribes, government agencies, state and local coalitions, academia, research laboratories, labor unions, community-based organizations (CBOs), and other stakeholders on definitions, program structure, and selection related to the Department's authority to provide capital improvement incentives under Sections 243 and 247 of the Energy Policy Act of 2005 (Pub. L. 109-58) (EPAct 2005). See 42 U.S.C. 15882 and 15883. This is solely a request for information and not a Funding Opportunity Announcement. DOE is not accepting applications at this time.

Confidential Business Information: According to 10 CFR 1004.11, any person submitting information that he or she believes to be confidential and exempt by law from public disclosure should submit via email, postal mail, or hand delivery two well-marked copies: one copy of the document marked “confidential” including all the information believed to be confidential, and one copy of the document marked “non-confidential” with the information believed to be confidential deleted. Submit these documents via email or on a CD, if feasible. DOE will make its own determination about the confidential status of the information and treat it according to its determination.

It is DOE's policy that all comments may be included in the public docket, without change and as received, including any personal information provided in the comments (except information deemed to be exempt from public disclosure).

Signing Authority

This document of the Department of Energy was signed on June 30, 2022, by Patricia Hoffman, Acting Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC on July 1, 2022.
Treena V. Garrett,
Federal Register Liaison Officer, U.S. Department of Energy.

[FR Doc. 2022-14444 Filed 7-6-22; 8:45 am]

BILLING CODE 6450-01-P